DEPARTMENT OF ENERGY

Federal Energy Regulatory Commission

[Docket No. ER04-220-002, et al.]

NEO California Power LLC, et al.; Electric Rate and Corporate Filings

February 23, 2004.

The following filings have been made with the Commission. The filings are listed in ascending order within each docket classification.

1. NEO California Power LLC

[Docket No. ER04-220-002]

Take notice that on February 19, 2004, NEO California Power LLC (NEO California) tendered for filing corrected rate schedule sheets for the Must-Run Service Agreement (RMR Agreement) between NEO California and the California Independent System Operator Corporation (California ISO), which, according to NEO California, reflect the effective date approved by the Federal Energy Regulatory Commission's January 21, 2004, letter order.

Comment Date: March 11, 2004.

2. Dominion Retail, Inc.

[Docket No. ER04-249-001]

Take notice that on February 18, 2004, Dominion Retail, Inc. (Dominion Retail) filed a revised market-based rate tariff to incorporate the Market Behavior Rules established by the Commission in its order issued on November 17, 2003, in Docket No. EL01-118-000.

Comment Date: March 10, 2004.

3. Pure Energy

[Docket No. ER04-452-001]

Take notice that on February 18, 2004, Pure Energy submitted for filing a rate revised schedule conforming to the Commission's Order 614.

Comment Date: March 10, 2004.

4. Southern California Edison Company

[Docket No. ER04-566-000]

Take notice that on February 18, 2004, Southern California Edison Company (SCE) tendered for filing the Amended and Restated Radial Lines Agreement (Amended Agreement) between SCE and Reliant Energy Mandalay, Inc. (Reliant). SCE states that the Amended Agreement reflects the replacement of three Coupling Capacitor Voltage Transformers at SCE's Santa Clara Substation related to the radial line connecting Reliant's gas fired generating facility to the California Independent System Operator Controlled Grid at SCE's Santa Clara Substation.

SCE states that copies of this filing were served upon the Public Utilities Commission of the State of California and Reliant.

Comment Date: March 10, 2004.

5. El Paso Electric Company

[Docket No. ER04-567-000]

Take notice that on February 18, 2004, El Paso Electric Company (EPE) pursuant to a November 6 Settlement Agreement between EPE and Public Service Company of New Mexico, EPE tendered for filing revisions to Schedule 7 of its Open Access Transmission Tariff to include hourly firm point-to-point transmission service. EPE seeks an effective date of April 19, 2004, for the proposed revisions.

Comment Date: March 10, 2004.

6. Florida Power & Light Company

[Docket No. ER04-568-000]

Take notice that on February 18, 2004, Florida Power & Light Company (FPL) tendered for filing an executed amendment to the Interconnection & Operation Agreement between FPL and Blue Heron Energy Center, LLC. FPL requests that this amendment be made effective February 6, 2004.

Comment Date: March 10, 2004.

7. Midwest Independent Transmission System Operator, Inc.

[Docket No. ER04-569-000]

Take notice that on February 18, 2004, Midwest Independent Transmission System Operator, Inc. (Midwest ISO) tendered for filing Notices of Cancellation for the Adams-Columbia Electric Cooperative, Central Wisconsin Electric Cooperative, Kiel Electric Utility, Prairie du Sac Electric & Water Utility and Rock County Electric Cooperative Ancillary Service Agreements under the Midwest ISO FERC Electric Tariff, Second Revised, Volume No. 1, pursuant to sections 35.15 and 131.53 of the Commission's regulations, 18 CFR 35.15 and 131.53 (2002).

Midwest ISO states that a copy of this filing was served on all parties.

Comment Date: March 10, 2004.

8. Midwest Independent Transmission System Operator, Inc. and Ameren Services Company

[Docket No. ER04-571-000]

Take notice that on February 19, 2004, the Midwest Independent Transmission System Operator, Inc. (Midwest ISO) and Ameren Services Company, as agent for Union Electric Company, d/b/a AmerenUE (AmerenUE), tendered for filing an Agreement for the Provision of Transmission Service to Bundled Retail Load between the Midwest ISO and AmerenUE (the Service Agreement). The Midwest ISO states that the Service Agreement establishes a contractual framework that allows AmerenUE to provide bundled electric service to its Missouri retail customers during a five-year transitional period while permitting the company to comply with Order No. 2000 through its participation in the Midwest ISO.

Midwest ISO states that copies of this filing were served upon all parties.

Comment Date: March 5, 2004.

9. Southern California Edison Company

[Docket No. ER04-572-000]

Take notice that on February 19, 2004, Southern California Edison Company (SCE) tendered for filing revised rate sheets to Rate Schedule FERC Nos. 112, 113, 421, and 342. The revisions to these rate sheets are made pursuant to a letter agreement (Letter Agreement) and various contract amendments between SCE and the State of California Department of Water Resources (CDWR (Parties, collectively)) which provide for a reduction to CDWR's loss obligation to SCE, and resolve a longstanding billing dispute between the Parties. SCE respectfully requests an effective date of January 1, 2002.

SCE states that copies of this filing were served upon the Public Utilities Commission of the State of California, CDWR and the California Independent System Operator Corporation.

Comment Date: March 11, 2004.

10. Consolidated Edison Company of New York, Inc.

[Docket No. ER04-573-000]

Take notice that on February 19, 2004, Consolidated Edison Company of New York, Inc. (Con Edison) tendered for filing on Open Access Transmission Tariff, FERC Electric Tariff, First Revised Volume No. 1 (superseding Original Volume No. 1). Con Edison states that the filing proposes non-substantive revisions to Con Edison's current Open Access Transmission Tariff, including reformatting in compliance with Order No. 614.

Comment Date: March 11, 2004.

11. Basin Electric Power Cooperative

[Docket No. NJ04-2-001]

Take notice that on February 18, 2004, Basin Electric Power Cooperative (Basin Electric) tendered for filing Substitute First Revised Sheet No. 7 in its non-jurisdictional open-access transmission reciprocity tariff, FERC Electric Tariff, Original Volume No. 1 (West-Side OATT) correcting errors in the table of contents that was contained in Basin Electric's January 20, 2004, filing (January 20th Filing) in compliance with Standardization of Generator Interconnection Agreements and Procedures, Order No. 2003, FERC Stats. & Regs. ¶ 31,146, 104 FERC ¶ 61,103 (2003). Basin Electric respectfully requests that the Commission allow the revised sheet to become effective January 20, 2004, the same effective date that it requested in its January 20th Filing.

Basin Electric states that copies of the filing were served upon customers under the West-Side OATT, persons on the Commission's official service list in this proceeding, and upon the Public Service Company of Colorado, the Iowa Utilities Board, the Minnesota Public Utilities Commission, the Montana Public Service Commission, the Nebraska Public Service Commission, the North Dakota Public Utilities Commission, the South Dakota Public Utilities Commission, and the Wyoming Public Service Commission.

Comment Date: March 10, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-419 Filed 2-27-04; 8:45 am]

BILLING CODE 6717-01-P